ENVIRONMENTAL PROTECTION AGENCY

[EPA-HQ-OECA-2013-0298, 0303, 0311—0312, 0315, 0317, 0319, 0321—0328, 0347—0349, 0350—0356; FRL—9822-8]

Proposed Information Collection Request; Comment Request; See Item Specific ICR Titles Provided in the Text

AGENCY: Environmental Protection Agency (EPA).

ACTION: Notice.

SUMMARY: The Environmental Protection Agency is planning to submit an information collection request (ICR) (See item specific ICR title, EPA ICR Number, and OMB Control Number provided in the text) to the Office of Management and Budget (OMB) for review and approval in accordance with the Paperwork Reduction Act (44 U.S.C. 3501 et seq.). Before doing so, EPA is soliciting public comments on specific aspects of the proposed information collection as described below. This is a proposed extension of the ICR, see expiration date for each ICR provided in the text. An Agency may not conduct or sponsor and a person is not required to respond to a collection of information unless it displays a currently valid OMB control number.

DATES: Comments must be submitted on or before August 12, 2013.

ADDRESSES: Submit your comments, referencing the Docket ID numbers provided for each item in the text, online using www.regulations.gov (our preferred method), by email to docket.oeca@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Learia Williams, Compliance Assessment and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

(1) Docket ID Number: EPA-HQ-OECA-2013-0303; Title: NSPS for Equipment Leaks of VOC in Petroleum Refineries (40 CFR Part 60, Subparts GGG and GGGa); ICR Numbers: EPA ICR Number 0983.13, OMB Control Number 2060-0067; ICR Status: This ICR is scheduled to expire on April 30, 2014.

Abstract: Owners or operators of the affected facilities must make one-time-only notifications. Owners or operators are also required to maintain records of the occurrence and duration of any startup, shutdown, or malfunction in the operation of an affected facility, or any period during which the monitoring system is inoperative. Monitoring requirements specific to equipment leaks of VOC in petroleum refineries provide information on which components are leaking VOCs. NSPS Subpart GGG references the compliance requirements of NSPS subpart VV, and NSPS subpart GGGa references the compliance requirements of NSPS subpart VVa. Owners or operators are required to periodically record information identifying leaking equipment, repair methods used to stop the leaks, and dates of repair. Semiannual reports are required to measure compliance with the standards of NSPS Subparts VV and VVa as referenced by NSPS subparts GGG and GGGa. These notifications, reports, and records are essential in determining compliance and are required, in general, of all sources subject to NSPS. Any owner or operator subject to the provisions of this part shall maintain a file of these measurements, and retain the file for at least two years following the date of such measurements, maintenance reports, and records.

Form Numbers: None

Respondents/affected entities: Petroleum refineries.

Respondent's obligation to respond: mandatory (40 CFR part 60, subparts GGG and GGGa)

Estimated number of respondents: 160 (total).

Frequency of response: Semiannually.

Total estimated burden: 24,525 hours (per year). Burden is defined at 5 CFR 1320.03(b)

Total estimated cost: $2,319,816 (per year), includes no annualized capital or operation & maintenance costs.

Changes in Estimates: There is no change in the labor hours in this ICR compared to the previous ICR. This is due to two considerations: (1) The regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(2) Docket ID Number: EPA-HQ-OECA-2013-0319; Title: NSPS for VOC Emissions from Petroleum Refinery Wastewater Systems (40 CFR Part 60, Subpart QQQ); ICR Numbers: EPA ICR Number 1136.11, OMB Control Number 2060-0172; ICR Status: This ICR is scheduled to expire on April 30, 2014.

Abstract: Owners and operators of petroleum refinery wastewater systems are required to keep records of design and operating specifications of all equipment installed to comply with the standards such as water seals, roof seals, control devices, and other equipment. This information is necessary to ensure that equipment design and operation specifications are met, and the source is in compliance with NSPS subpart QQQ.

Form Numbers: None

Respondents/affected entities: Petroleum refinery wastewater systems.

Respondent's obligation to respond: mandatory (40 CFR part 60, subpart QQQ)

Estimated number of respondents: 135 (total).

Frequency of response: Initially, occasionally, quarterly, and semiannually

Total estimated burden: 9,237 hours (per year). Burden is defined at 5 CFR 1320.03(b)

Total estimated cost: $840,361 (per year), includes $17,550 annualized capital or operation & maintenance costs.

Changes in Estimates: There is no change in the labor hours in this ICR compared to the previous ICR. This is due to two considerations: (1) The regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(3) Docket ID Number: EPA-HQ-OECA-2013-0325; Title: NESHAP for Benzene Emission from Benzene Storage Vessels and Coke By-Product Recovery Plants (40 CFR Part 61, Subparts L and Y); ICR Numbers: EPA ICR Number 1080.14, OMB Control Number 2060-0185; ICR Status: This ICR is scheduled to expire on April 30, 2014.

Abstract: The affected entities are subject to the General Provisions of the NESHAP at 40 CFR part 61, subpart A, and to the provisions at 40 CFR part 61, subpart L. Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semiannually at a minimum.

Form Numbers: None

Respondents/affected entities: Owners or operators of benzene storage vessels and coke by product recovery plants.

Respondent's obligation to respond: mandatory (40 CFR part 61, subparts L and Y)

Estimated number of respondents: 17 (total).

Frequency of response: Semiannually and occasionally.

Total estimated burden: 3,137 hours (per year). Burden is defined at 5 CFR 1320.03(b)

Total estimated cost: $294,347 (per year), includes $0 annualized capital or operation & maintenance costs.

Changes in Estimates: There is no change in the labor hours in this ICR compared to the previous ICR. This is due to two considerations: (1) the regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(4) Docket ID Number: EPA-HQ-OECA-2013-0350; Title: The Consolidated Air Rule (CAR) for the Synthetic Organic Chemical Manufacturing Industry (SOCMI) (Renewal); ICR Numbers: EPA ICR Number 1854.09, OMB Control Number 2060-0443; ICR Status: This ICR is scheduled to expire on April 30, 2014.

Abstract: The synthetic organic chemical manufacturing industry (SOCMI) is regulated by the New Source Performance Standards (NSPS) and National Emission Standards for Hazardous Air Pollutants (NESHAP) standards. The affected entities are subject to the General Provisions of the NSPS at 40 CFR part 60, subpart A, and any changes or additions to the General Provisions specified at 40 CFR part 60, subparts Ka, Kb, VV, VVa, DDD, III, NNN and RRR. The affected entities are also subject to the General Provisions of the NESHAP at 40 CFR part 63, subpart A, and any changes, or additions to the General Provisions specified at 40 CFR part 63, subparts BB, Y, V, F, G, H and I. As an alternative, SOCMI sources may choose to comply with the above standards under the consolidated air rule (CAR) at 40 CFR Part 65 as promulgated December 14, 2000. Synthetic organic chemical manufacturing facilities subject to NSPS requirements must notify EPA of construction, modification, startups, shutdowns, date and results of initial performance test and excess emissions. Semiannual reports are also required. Synthetic organic chemical manufacturing facilities subject to NESHAP requirements must submit one-time-only reports of any physical or operational changes and the results of initial performance tests. Owners or operators are also required to maintain records of the occurrence and duration of any startup, shutdown, or malfunction in the operation of an affected facility, or any period during which the monitoring system is inoperative. Periodic reports are also required semiannually at a minimum.

Form Numbers: None

Respondents/affected entities: Owners or operators of synthetic organic chemical manufacturing facilities.

Respondent's obligation to respond: mandatory (40 CFR part 60, subpart A, Ka, Kb, VV, VVa, DDD, III, NNN and RRR; and 40 CFR part 63, subpart A, BB, Y, V, F, G, H and I)

Estimated number of respondents: 3,311 (total).

Frequency of response: Initially, occasionally, semiannually and annually.

Total estimated burden: 1,988,952 hours (per year). Burden is defined at 5 CFR 1320.03(b)

Total estimated cost: $283,462,406 (per year), includes $95,329,000 annualized capital or operation & maintenance costs.

Changes in Estimates: There is no change in the labor hours in this ICR compared to the previous ICR. This is due to two considerations: (1) The regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(5) Docket ID Number: EPA-HQ-OECA-2013-0355; Title: NESHAP for Clay Ceramics Manufacturing, Glass Manufacturing and Secondary Nonferrous Metals Processing Area Sources (40 CFR Part 63, Subparts RRRRRR, SSSSSS, and TTTTTT); ICR Numbers: EPA ICR Number 2274.04, OMB Control Number 2060-0606; ICR Status: This ICR is scheduled to expire on April 30, 2014.

Abstract: The affected entities are subject to the General Provisions of the NESHAP at 40 CFR part 63, subpart A, and any changes, or additions to the Provisions specified at 40 CFR part 63, subparts RRRRRR, SSSSSS, and TTTTTT. Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semiannually at a minimum.

Form Numbers: None

Respondents/affected entities: Owners or operators of clay ceramics manufacturing, glass manufacturing, and secondary nonferrous metals processing area sources.

Respondent's obligation to respond: mandatory (40 CFR part 63, subparts RRRRRR, SSSSSS, and TTTTTT)

Estimated number of respondents: 82 (total).

Frequency of response: Initially, occasionally and annually.

Total estimated burden: 1,763 hours (per year). Burden is defined at 5 CFR 1320.03(b)

Total estimated cost: $178,380 (per year), includes $12,964 annualized capital or operation & maintenance costs.

Changes in Estimates: There is no change in the labor hours in this ICR compared to the previous ICR. This is due to two considerations: (1) The regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(6) Docket ID Number: EPA-HQ-OECA-2013-0353; Title: NSPS for Stationary Spark Ignition Internal Combustion Engines (40 CFR Part 60, Subpart JJJJ); ICR Numbers: EPA ICR Number 2227.04, OMB Control Number 2060-0610; ICR Status: This ICR is scheduled to expire on April 30, 2014.

Abstract: The affected entities are subject to the General Provisions of the NESHAP at 40 CFR part 63, subpart A, and any changes, or additions specified at 40 CFR part 63, subpart YYYYY. Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semiannually at a minimum.

Form Numbers: None

Respondents/affected entities: Owners or operators of electric arc furnace steelmaking facilities.

Respondent's obligation to respond: mandatory (40 CFR part 60, subpart JJJJ)

Estimated number of respondents: 91 (total).

Frequency of response: Initially, semiannually and occasionally.

Total estimated burden: 1,481 hours (per year). Burden is defined at 5 CFR 1320.03(b)

Total estimated cost: $138,991 (per year), includes $0 annualized capital or operation & maintenance costs.

Changes in Estimates: There is an increase in both respondent and Agency burden costs from the most recently approved ICR is due to an increase in the number of new or modified sources and an adjustment in labor rates.

(7) Docket ID Number: EPA-HQ-OECA-2013-0321; Title: NSPS for Sewage Sludge Incinerators (40 CFR Part 60, Subpart LLLL); ICR Numbers: EPA ICR Number 2369.03, OMB Control Number 2060-0658; ICR Status: This ICR is scheduled to expire on April, 30, 2014.

Abstract: The Standards of Performance for New Stationary Sources: Sewage Sludge Incineration (SSI) Units Subpart LLLL, fulfill the requirements of sections 111 and 129 of the Clean Air Act (CAA), which require EPA to promulgate NSPS for solid waste incineration units. The information collection activities required by the NSPS include: siting requirements, operator training and qualification requirements, testing, monitoring and reporting requirements, one-time and periodic reports, and the maintenance of records. These activities will enable the Designated Administrator to determine initial compliance with the emission limits for the regulated pollutants, monitor compliance with operating parameters, and ensure that facilities conduct the proper planning and operator training.

Form Numbers: None

Respondents/affected entities: Owners and operators of sewage sludge incineration units.

Respondent's obligation to respond: mandatory (40 CFR part 60, subpart LLLL)

Estimated number of respondents: 2 (total).

Frequency of response: Initially, annually, and occasionally.

Total estimated burden: 701 hours (per year). Burden is defined at 5 CFR 1320.03(b)

Total estimated cost: $271,590 (per year), includes $231,753 annualized capital or operation & maintenance costs.

Changes in Estimates: There is an adjustment in the total estimated burden as currently identified in the OMB Inventory of Approved Burdens. The change in the burden and cost estimates occurred because the standard has been in effect for more than three years and the requirements are different during initial compliance (new facilities) as compared to on-going compliance (existing facilities). The previous ICR reflected those burdens and costs associated with the initial activities for subject facilities. This includes purchasing monitoring equipment, conducting performance test(s) and establishing recordkeeping systems. This ICR, by in large, reflects the on-going burden and costs for existing facilities. Activities for existing source include continuously monitoring of pollutants and the submission of semiannual reports.

(8) Docket ID Number: EPA-HQ-OECA-2013-0317; Title: NESHAP for Gold Mine Ore Processing (40 CFR Part 63, Subpart EEEEEEE); ICR Numbers: EPA ICR Number 2383.03, OMB Control Number 2060-0659; ICR Status: This ICR is scheduled to expire on April 30, 2014.

Abstract: The NESHAP for Gold Mine Ore Processing (40 CFR Part 63, Subpart EEEEEEE) were proposed April 28, 2010, and promulgated on December 16, 2010. The owner or operator of an existing or new affected source is required to prepare and submit an initial notification of applicability and an initial notification of compliance status. Each owner or operator of an affected source is required to keep records to document compliance with the mercury emission limits and also maintain records of all monitoring data and specified process throughput data. If a deviation from the rule requirements occurs, an affected source is required to submit a compliance report for that semi-annual reporting period.

Form Numbers: None

Respondents/affected entities: Owners or operators of gold mine ore processing facilities.

Respondent's obligation to respond: mandatory (40 CFR part 63, subpart EEEEEEE)

Estimated number of respondents: 21 (total).

Frequency of response: Initially and quarterly.

Total estimated burden: 483 hours (per year). Burden is defined at 5 CFR 1320.03(b)

Total estimated cost: $444,777 (per year), includes $417,930 annualized capital or operation & maintenance costs.

Changes in Estimates: There is an adjustment in the total estimated burden because the standard has been in effect for more than three years and the requirements are different during initial compliance (new facilities) as compared to on-going compliance (existing facilities). The previous ICR reflected those burdens and costs associated with the initial activities for subject facilities. This includes purchasing monitoring equipment, conducting performance test(s) and establishing recordkeeping systems. This ICR, by in large, reflects the on-going burden and costs for existing facilities. Activities for existing source include continuously monitoring of pollutants and the submission of semiannual reports.

(9) Docket ID Number: EPA-HQ-OECA-2013-0311; Title: Emission Guidelines for Sewage Sludge Incinerators (40 CFR Part 60, Subpart MMMM); ICR Numbers: EPA ICR Number 2403.03, OMB Control Number 2060-0661; ICR Status: This ICR is scheduled to expire on May 31, 2014.

Abstract: This supporting statement addresses information collection activities imposed by the Sewage Sludge Incineration (SSI) Unit Emission Guidelines Subpart MMMM. The guidelines do not apply directly to SSI unit owners and operators. The guidelines can be thought of as model regulations that States use in developing State plans to implement the emission guidelines. If a State does not develop, adopt, and submit an approvable State plan, the Environmental Protection Agency (EPA) must develop a Federal plan to implement the emission guidelines. This ICR presents the burden to respondents (owners or operators of SSI units) and the Designated Administrator (State or Federal Government) that will be imposed by State plans developed to implement the emission guidelines. Respondents are owners or operators of existing SSI units, including fluidized bed or multiple hearth units.

Form Numbers: None

Respondents/affected entities: Owners and operators of sewage sludge incinerators.

Respondent's obligation to respond: mandatory (40 CFR part 60, subpart MMMM)

Estimated number of respondents: 110 (total).

Frequency of response: Initially and annually.

Total estimated burden: 39,350 hours (per year). Burden is defined at 5 CFR 1320.03(b)

Total estimated cost: $7,388,899 (per year), includes $7,388,899 annualized capital or operation & maintenance costs.

Changes in Estimates: There is an adjustment decrease in the total estimated burden since the standard has been in effect for three years. The previous ICR covers the burden for initial compliance during the first three years of rule promulgation. This ICR reflects the burden for ongoing compliance (existing sources).

(10) Docket ID Number: EPA-HQ-OECA-2013-0315; Title: NSPS for Commercial and Industrial Solid Waste Incineration (CISWI) units (40 CFR Part 60, Subpart CCCC); ICR Numbers: EPA ICR Number 2384.05, OMB Control Number 2060-0662; ICR Status: This ICR is scheduled to expire on May 31, 2014.

Abstract: The NSPS fulfills the requirements of sections 111 and 129 of the Clean Air Act (CAA), which require EPA to promulgate NSPS for solid waste incineration units. This final rule will amend the 2000 CISWI NSPS currently in affect.

The information collection activities required by the NSPS include: siting requirements, operator training and qualification requirements, testing, monitoring and reporting requirements, one-time and periodic reports, and the maintenance of records. These activities will enable EPA to determine initial compliance with the emission limits for the regulated pollutants, monitor compliance with operating parameters, and ensure that facilities conduct the proper planning and operator training.

Form Numbers: None

Respondents/affected entities: Owners and operators of commercial and industrial solid waste incineration units.

Respondent's obligation to respond: mandatory (40 CFR part 60, subpart CCCC)

Estimated number of respondents: 1 (total).

Frequency of response: Initially, occasionally, and annually.

Total estimated burden: 858 hours (per year). Burden is defined at 5 CFR 1320.03(b)

Total estimated cost: $171,524 (per year), includes $140,997 annualized capital or operation & maintenance costs.

Changes in Estimates: There is no change in the labor hours in this ICR compared to the previous ICR. This is due to two considerations: (1) The regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(11) Docket ID Number: EPA-HQ-OECA-2013-0326; Title: NSPS for Asphalt Processing and Roofing Manufacturing (40 CFR Part 60, Subpart UU); ICR Numbers: EPA ICR Number 0661.11, OMB Control Number 2060-0002; ICR Status: This ICR is scheduled to expire on June 30, 2014.

Abstract: Owners and operators must notify EPA of construction modification startups, shutdowns, malfunctions, and data and results of performance test. Owners/operators must continually monitor and record temperature in specified pollution control devices. EPA determines parameters to be recorded in other control devices upon description of that device by the source.

Form Numbers: None

Respondents/affected entities: Asphalt processing and roofing manufacturers

Respondent's obligation to respond: mandatory (40 CFR part 60, subpart UU)

Estimated number of respondents: 144 (total).

Frequency of response: Initially, and semiannually.

Total estimated burden: 33,912 hours (per year). Burden is defined at 5 CFR 1320.03(b)

Total estimated cost: $8,686,825 (per year), includes $5,240,000 annualized capital or operation & maintenance costs.

Changes in Estimates: There is an increase in both respondent and Agency burden costs from the most recently approved ICR is due to an increase in the number of new or modified sources and an adjustment in labor rates.

(12) Docket ID Number: EPA-HQ-OECA-2013-0328; Title: NESHAP for Vinyl Chloride (40 CFR Part 61, Subpart F); ICR Numbers: EPA ICR Number 0186.13, OMB Control Number 2060-0071; ICR Status: This ICR is scheduled to expire on June 30, 2014.

Abstract: The affected entities are subject to the General Provisions of the NESHAP at 40 CFR part 61, subpart A, and any changes, or additions to the General Provisions specified at 40 CFR part 61, subpart F.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required quarterly at a minimum.

Form Numbers: None

Respondents/affected entities: Owners or operators of vinyl chloride production facilities

Respondent's obligation to respond: mandatory (40 CFR part 61, subpart F)

Estimated number of respondents: 28 (total).

Frequency of response: Initially, quarterly, and occasionally.

Total estimated burden: 11,826 hours (per year). Burden is defined at 5 CFR 1320.03(b)

Total estimated cost: $2,369,531 (per year), includes $1,260,000 annualized capital or operation & maintenance costs.

Changes in Estimates: There is no change in the labor hours in this ICR compared to the previous ICR. This is due to two considerations: (1) The regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(13) Docket ID Number: EPA-HQ-OECA-2013-0349; Title: NESHAP for Pharmaceutical Production (40 CFR Part 63, Subpart GGG); ICR Numbers: EPA ICR Number 1781.07, OMB Control Number 2060-0358; ICR Status: This ICR is scheduled to expire on June 30, 2014.

Abstract: The NESHAP for Pharmaceuticals Production were proposed on April 2, 1997, and promulgated on September 21, 1998. In general, all NESHAP standards require initial notifications, performance tests, and periodic reports. Owners or operators are also required to maintain records of the occurrence and duration of any malfunctions in the operation of an affected facility, or any period during which the monitoring system is inoperative. These notifications, reports, and records are essential in determining compliance and, in general, are required of all sources subject to NESHAP. This information is used by the Agency to identify sources subject to the standards to insure that the maximum achievable control technologies are being applied. Semiannual summary reports are also required.

Form Numbers: None

Respondents/affected entities: Pharmaceutical manufacturing operations.

Respondent's obligation to respond: mandatory (40 CFR part 63, subpart GGG)

Estimated number of respondents: 27 (total).

Frequency of response: Initially and semiannually.

Total estimated burden: 44,266 hours (per year). Burden is defined at 5 CFR 1320.03(b)

Total estimated cost: $4,299,575 (per year), includes $112,266 annualized capital or operation & maintenance costs.

Changes in Estimates: There is no change in the labor hours in this ICR compared to the previous ICR. This is due to two considerations: (1) The regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(14) Docket ID Number: EPA-HQ-OECA-2013-0322; Title: NESHAP for Beryllium Rocket Motor Fuel Firing (40 CFR Part 61, Subpart D); ICR Numbers: EPA ICR Number 1125.07, OMB Control Number 2060-0394; ICR Status: This ICR is scheduled to expire on June 30, 2014.

Abstract: The affected entities are subject to the General Provisions of the NESHAP at 40 CFR part 61, subpart A, and any changes or additions to the Provisions are specified at 40 CFR part 61, subpart D. Owners or operators of the affected facilities must submit a one-time-only report of any physical or operational changes, initial performance tests, and periodic reports and results. Owners or operators are also required to maintain records of the occurrence and duration of any startup, shutdown, or malfunction in the operation of an affected facility, or any period during which the monitoring system is inoperative.

Form Numbers: None

Respondents/affected entities: Owners or operators of beryllium rocket motor fuel firing facilities.

Respondent's obligation to respond: mandatory (40 CFR part 61, subpart D)

Estimated number of respondents: 1 (total).

Frequency of response: Initially and annually.

Total estimated burden: 8 hours (per year). Burden is defined at 5 CFR 1320.03(b)

Total estimated cost: $784 (per year), includes $0 annualized capital or operation & maintenance costs.

Changes in Estimates: There is no change in the labor hours in this ICR compared to the previous ICR. This is due to two considerations: (1) The regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(15) Docket ID Number: EPA-HQ-OECA-2013-0312; Title: Emission Guidelines for Commercial and Industrial Solid Waste Incineration (CISWI) units (40 CFR Part 60, Subpart DDDD); ICR Numbers: EPA ICR Number 2385.06, OMB Control Number 2060-0664; ICR Status: This ICR is scheduled to expire on June 30, 2014.

Abstract: The affected entities are subject to the General Provisions of the Emission Guidelines at 40 CFR part 60, subpart A, and any changes, or additions to the General Provisions specified at 40 CFR part 60, subpart DDDD.

Owners or operators of the affected facilities must submit initial notification, performance tests, and periodic reports and results. Owners or operators are also required to maintain records of the occurrence and duration of any startup, shutdown, or malfunction in the operation of an affected facility, or any period during which the monitoring system is inoperative. Reports are required semiannually at a minimum.

Form Numbers: None

Respondents/affected entities: Owners and operators of commercial and industrial solid waste incineration units.

Respondent's obligation to respond: mandatory (40 CFR part 60, subpart DDDD)

Estimated number of respondents: 70 (total).

Frequency of response: Initially, occasionally, and annually.

Total estimated burden: 17,093 hours (per year). Burden is defined at 5 CFR 1320.03(b)

Total estimated cost: $4,030,921 (per year), includes $3,422,428 annualized capital or operation & maintenance costs.

Changes in Estimates: There is no change in the labor hours in this ICR compared to the previous ICR. This is due to two considerations: (1) The regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(16) Docket ID Number: EPA-HQ-OECA-2013-0356; Title: NESHAP for Group I Polymers and Resins (40 CFR Part 63, Subpart U); ICR Numbers: EPA ICR Number 2410.03, OMB Control Number 2060-0665; ICR Status: This ICR is scheduled to expire on June 30, 2014.

Abstract: EPA is promulgating revisions for the National Emission Standards for Hazardous Air Pollutants (NESHAP) for Group I Polymers and Resins. Potential respondents subject to the new requirements of the NESHAP include an estimated 5 existing facilities that produce butyl rubber, epichlorohydrin elastomer, ethylene-propylene rubber, neoprene rubber, and nitrile butadiene rubber. The total annual responses attributable to this ICR consist of notification of front-end process vent limits, notification of back-end operation limits, recordkeeping related to the new limits, and reports submitted to satisfy affirmative defense provisions.

Form Numbers: None

Respondents/affected entities: Owners and operators of facilities that produce butyl rubber, epichlorohydrin elastomer, ethylene-propylene rubber, neoprene rubber, and nitrile butadiene rubber.

Respondent's obligation to respond: mandatory (40 CFR part 63, subpart U)

Estimated number of respondents: 5 (total).

Frequency of response: Initially, occasionally, and semiannually.

Total estimated burden: 251 hours (per year). Burden is defined at 5 CFR 1320.03(b)

Total estimated cost: $12,222 (per year), includes $0 annualized capital or operation & maintenance costs.

Changes in Estimates: There is an adjustment increase in the total estimated burden compared to the previous ICR. The increase reflects additional requirements associated with the revision of the standard.

(17) Docket ID Number: EPA-HQ-OECA-2013-0327; Title: NSPS for Portland Cement Plants (40 CFR Part 60, Subpart F); ICR Numbers: EPA ICR Number 1051.12, OMB Control Number 2060-0025; ICR Status: This ICR is scheduled to expire on July 31, 2014.

Abstract: Entities potentially affected by this action are Portland cement plants with the following facilities; kilns, clinker coolers, raw mill systems, raw mill dryers, raw material storage, clinker storage, finished product storage, conveyor transfer points, bagging and bulk loading and unloading systems. Entities are required to submit initial notifications, conduct initial performance tests, and submit semi-annual reports for exceedances and startups, shutdown and malfunctions.

Form Numbers: None

Respondents/affected entities: Portland cement plants

Respondent's obligation to respond: mandatory (40 CFR part 60, subpart F)

Estimated number of respondents: 118 (total).

Frequency of response: Initially and semiannually

Total estimated burden: 17,666 hours (per year). Burden is defined at 5 CFR 1320.03(b)

Total estimated cost: $2,766,659 (per year), includes $939,014 annualized capital or operation & maintenance costs.

Changes in Estimates: There is no change in the labor hours in this ICR compared to the previous ICR. This is due to two considerations: (1) The regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(18) Docket ID Number: EPA-HQ-OECA-2013-0348; Title: NESHAP for Primary Aluminum Reduction Plants (40 CFR Part 63, Subpart LL); ICR Numbers: EPA ICR Number 1767.07, OMB Control Number 2060-0360; ICR Status: This ICR is scheduled to expire on July 31, 2014.

Abstract: The affected entities are subject to the General Provisions of the NESHAP at 40 CFR part 63, subpart A, and any changes, or additions to the Provisions specified at 40 CFR part 63, subpart LL.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semiannually at a minimum.

Form Numbers: None

Respondents/affected entities: Owners or operators of primary aluminum reduction plants.

Respondent's obligation to respond: mandatory (40 CFR part 63, subpart LL)

Estimated number of respondents: 16 (total).

Frequency of response: Initially, semiannually and annually.

Total estimated burden: 80,398 hours (per year). Burden is defined at 5 CFR 1320.03(b)

Total estimated cost: $7,599,556 (per year), includes $91,348 annualized capital or operation & maintenance costs.

Changes in Estimates: There is an increase in both respondent and Agency burden costs from the most recently approved ICR is due to an increase in the number of new or modified sources and an adjustment in labor rates.

(19) Docket ID Number: EPA-HQ-OECA-2013-0324; Title: NESHAP for Marine Tank Vessel Loading Operations (40 CFR Part 63, Subpart Y); ICR Numbers: EPA ICR Number 1679.09, OMB Control Number 2060-0289; ICR Status: This ICR is scheduled to expire on August 31, 2014.

Abstract: This rule applies to marine tank vessel loading operations that are major sources of HAP, have an annual throughput of 10 million or more barrels of gasoline, and/or have an annual throughput of 200 million or more barrels of crude oil. This ICR also covers owners or operators of existing MTVLO, that emit less than 10 tons per year of each individual HAP, and less than 25 tons/year of all HAP combined, located at major sources of HAP that loads more than 1 million barrels/yr of gasoline, as well as owners or operators of existing off-shore terminals that load gasoline.

Form Numbers: None

Respondents/affected entities: owners or operators of existing marine tank vessel loading operations.

Respondent's obligation to respond: mandatory (40 CFR part 63, subpart Y)

Estimated number of respondents: 54 (total).

Frequency of response: Initially and semiannually.

Total estimated burden: 2,489 hours (per year). Burden is defined at 5 CFR 1320.03(b)

Total estimated cost: $169,298 (per year), includes $3,888 annualized capital or operation & maintenance costs.

Changes in Estimates: There is an adjustment in the total estimated burden as currently identified in the OMB Inventory of Approved Burdens. This is due to proposed program changes. Additional controls are being proposed, which will need reporting and recordkeeping to ensure compliance. Additionally, there is an increase in both respondent and Agency burden costs from the most recently approved ICR is due to an adjustment in the labor rates.

(20) Docket ID Number: EPA-HQ-OECA-2013-0347; Title: NESHAP for Epoxy Resin and Non-Nylon Polyamide Production (40 CFR Part 63, Subpart W); ICR Numbers: EPA ICR Number 1681.08, OMB Control Number 2060-0290; ICR Status: This ICR is scheduled to expire on August 31, 2014.

Abstract: Sources are owners/operators of facilities which produce polymers and resins from epichlorohydrin and sources which manufacture epichlorohydrin-modified non-nylon polyamide resins. EPA and delegated states will use the information identify new, modified, reconstructed, or existing sources, or process changes which may affect the source's status and to ensure that affected sources are meeting the standards.

Form Numbers: None

Respondents/affected entities: Epoxy resin and non-nylon polyamide production

Respondent's obligation to respond: mandatory (40 CFR part 63, subpart W)

Estimated number of respondents: 7 (total).

Frequency of response: Semiannually, quarterly, and initially.

Total estimated burden: 3,853 hours (per year). Burden is defined at 5 CFR 1320.03(b)

Total estimated cost: $370,463 (per year), includes $9,000 annualized capital or operation & maintenance costs.

Changes in Estimates: There is no change in the labor hours in this ICR compared to the previous ICR. This is due to two considerations: (1) The regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(21) Docket ID Number: EPA-HQ-OECA-2013-0351; Title: NESHAP for Solvent Extraction for Vegetable Oil Production (40 CFR Part 63, Subpart GGGG); ICR Numbers: EPA ICR Number 1947.06, OMB Control Number 2060-0471; ICR Status: This ICR is scheduled to expire on August 31, 2014.

Abstract: The affected entities are subject to the General Provisions of the NESHAP at 40 CFR part 63, subpart A, and any changes, or additions to the Provisions specified at 40 CFR part 63, subpart GGGG. Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semiannually at a minimum.

Form Numbers: None

Respondents/affected entities: Owners or operators of vegetable oil production facilities.

Respondent's obligation to respond: mandatory (40 CFR part 63, subpart GGGG)

Estimated number of respondents: 101 (total).

Frequency of response: Initially, occasionally, and annually.

Total estimated burden: 39,385 hours (per year). Burden is defined at 5 CFR 1320.03(b)

Total estimated cost: $2,512,947 (per year), includes $0 annualized capital or operation & maintenance costs.

Changes in Estimates: There is no change in the labor hours in this ICR compared to the previous ICR. This is due to two considerations: (1) The regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(22) Docket ID Number: EPA-HQ-OECA-2013-0354; Title: NESHAP for Paint Stripping and Miscellaneous Surface Coating at Area Sources (40 CFR Part 63, Subpart HHHHHH); ICR Numbers: EPA ICR Number 2268.04, OMB Control Number 2060-0607; ICR Status: This ICR is scheduled to expire on August 31, 2014.

Abstract: The affected entities are subject to the General Provisions of the NESHAP at 40 CFR part 63, subpart A, and any changes or additions to the Provisions specified at 40 CFR part 63, subpart HHHHHH. Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semiannually at a minimum.

Form Numbers: None

Respondents/affected entities: Owners or operators of paint stripping and miscellaneous surface coating operations area sources.

Respondent's obligation to respond: mandatory (40 CFR part 63, subpart HHHHHH)

Estimated number of respondents: 39,812 (total).

Frequency of response: Initially, annually and occasionally.

Total estimated burden: 124,527 hours (per year). Burden is defined at 5 CFR 1320.03(b)

Total estimated cost: $11,423,194 (per year), includes $142,220 annualized capital or operation & maintenance costs.

Changes in Estimates: There is an increase in both respondent and Agency burden costs from the most recently approved ICR is due to an increase in the number of new or modified sources and an adjustment in labor rates.

(23) Docket ID Number: EPA-HQ-OECA-2013-0323; Title: NESHAP for Area Sources: Electric Arc Furnace Steelmaking Facilities (40 CFR Part 63, Subpart YYYYY); ICR Numbers: EPA ICR Number 2277.04, OMB Control Number 2060-0608; ICR Status: This ICR is scheduled to expire on August 31, 2014.

Abstract: The affected entities are subject to the General Provisions of the NESHAP at 40 CFR part 63, subpart A, and any changes, or additions specified at 40 CFR part 63, subpart YYYYY. Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semiannually at a minimum.

Form Numbers: None

Respondents/affected entities: Owners or operators of electric arc furnace steelmaking facilities.

Respondent's obligation to respond: mandatory (40 CFR part 63, subpart YYYYY)

Estimated number of respondents: 91 (total).

Frequency of response: Initially, semiannually and occasionally.

Total estimated burden: 1,481 hours (per year). Burden is defined at 5 CFR 1320.03(b)

Total estimated cost: $138,991 (per year), includes $0 annualized capital or operation & maintenance costs.

Changes in Estimates: There is no change in the labor hours in this ICR compared to the previous ICR. This is due to two considerations: (1) The regulations have not changed over the past three years and are not anticipated to change over the next three years; and (2) the growth rate for the respondents is very low, negative or non-existent. Therefore, the labor hours in the previous ICR reflect the current burden to the respondents and are reiterated in this ICR. However, there is an increase in burden costs due to an adjustment in labor rates.

(24) Docket ID Number: EPA-HQ-OECA-2013-0352; Title: NESHAP for Industrial, Commercial, and Institutional Boilers and Process Heaters (40 CFR Part 63, Subpart DDDDD); ICR Numbers: EPA ICR Number 2028.08, OMB Control Number 2060-0551; ICR Status: This ICR is scheduled to expire on September 30, 2014.

Abstract: The standard affects new and existing industrial/commercial/institutional boilers and process heaters that are major sources of HAPs. Each owner or operator of a source affected by the standards is required to submit an initial notification that the source is subject to the standard. Each respondent submits semiannual compliance reports. Additional records and notifications depend on which subcategory the boilers or process heaters are in.

Form Numbers: None

Respondents/affected entities: Owners and operators of industrial, commercial, and institutional boilers and process heaters.

Respondent's obligation to respond: mandatory (40 CFR part 63, subpart DDDDD)

Estimated number of respondents: 14,111 (total).

Frequency of response: Initial and annually.

Total estimated burden: 32,664 hours (per year). Burden is defined at 5 CFR 1320.03(b)

Total estimated cost: $97,110,020 (per year), includes $66,211,113 annualized capital or operation & maintenance costs.

Changes in Estimates: There is an increase in both respondent and Agency burden costs from the most recently approved ICR is due to an increase in the number of new or modified sources, and an adjustment in labor rates.

(25) Docket ID Number: EPA-HQ-OECA-2013-0298; Title: NESHAP for Industrial, Commercial, and Institutional Boilers Area Sources (40 CFR Part 63, Subpart JJJJJJ); ICR Numbers: EPA ICR Number 2253.03, OMB Control Number 2060-0668; ICR Status: This ICR is scheduled to expire on September 30, 2014.

Abstract: The NESHAP for Industrial, Commercial, and Institutional Boilers Area Sources, at 40 CFR part 63 subpart JJJJJJ (Area Boilers NESHAP) fulfills the requirements of section 112 of the Clean Air Act (CAA), which requires the United States Environmental Protection Agency (EPA) to promulgate national emission standards for industrial, commercial, and institutional boilers. Records and reports required by the NESHAP for industrial, commercial, and institutional boilers area sources are necessary to enable EPA to identify sources subject to the standards and to ensure that the standards are being achieved. Records and reports must be maintained at the facility and/or submitted to EPA. All reports are sent to the delegated state or local authority. In the event that there is no such delegated authority, the reports are sent directly to the EPA regional office.

Form Numbers: None

Respondents/affected entities: Owners and operators of industrial, commercial, or institutional boilers.

Respondent's obligation to respond: mandatory (40 CFR part 63, subpart JJJJJJ)

Estimated number of respondents: 182,671 (total).

Frequency of response: Initially, annually, and occasionally.

Total estimated burden: 2,681,826 hours (per year). Burden is defined at 5 CFR 1320.03(b)

Total estimated cost: $406,793,797 (per year), includes $153,122,174 annualized capital or operation & maintenance costs.

Changes in Estimates: There is an increase in both respondent and Agency burden costs from the most recently approved ICR is due to an increase in the number of new or modified sources and an adjustment in labor rates.

Dated: May 30, 2013.
Lisa C. Lund,
Director, Office of Compliance.

[FR Doc. 2013-13838 Filed 6-10-13; 8:45 am]

BILLING CODE 6560-50-P